FEDERAL ELECTION COMMISSION

Public Availability of Federal Election Commission, Procurement Division FY 2010 Service Contract Inventory

AGENCY: Federal Election Commission.

ACTION: Notice of public availability of FY 2010 Service Contract Inventories.

SUMMARY: In accordance with Section 743 of Division C of the Consolidated Appropriations Act of 2010 (Pub. L. 111-117), FEC PROCUREMENT DIVISION is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf.

The FEC Procurement Division has posted its inventory and a summary of the inventory on the FEC homepage at the following link: http://www.fec.gov/pages/procure/procure.shtml.

FOR FURTHER INFORMATION CONTACT: Questions regarding the service contract inventory should be directed to Bret A. Zieman, Director of Procurement, at 202-694-1225 or BZIEMAN@FEC.GOV.

Dated: January 26, 2011.
Shawn Woodhead Werth,
Secretary and Clerk, Federal Election Commission.

[FR Doc. 2011-2035 Filed 1-31-11; 8:45 am]

BILLING CODE P